DEPARTMENT OF COMMERCE

Bureau of the Census

Census Advisory Committees

AGENCY: Bureau of the Census, Department of Commerce.

ACTION: Notice of Public Meetings.

SUMMARY: The Bureau of the Census (Census Bureau) is giving notice of the following Census Advisory Committee (CAC) meeting: A special Joint Census Advisory Committee meeting of the CACs on Race and Ethnic Populations, the 2010 CAC, and the CAC of Professional Associations (CACPA), to be held on November 30, 2006. This special Joint Advisory Committee Meeting will focus on 2010 Census content, including results of the 2005 National Content Test. Separately, the American Indian and Alaska Native (AIAN) Advisory Committee will meet on November 29, 2006, to discuss AIAN-related geographic issues.

DATES: On Thursday, November 30, 2006, the special Joint CAC meeting will begin at 8:30 a.m. and adjourn at 5:30 p.m. On Wednesday, November 29, 2006, the AIAN Advisory Committee meeting will begin at 1 p.m. and adjourn at 5 p.m. Last minute changes to the schedule are possible.

ADDRESSES: The meetings will be held at the U.S. Census Bureau, 4600 Silver Hill Road, North Building, Suitland, Maryland 20746.

FOR FURTHER INFORMATION CONTACT: Ms. Jeri Green, Committee Liaison Officer, U.S. Department of Commerce, U.S. Census Bureau, Room 8H153, North Building, Washington, DC 20233, telephone: (301) 763-2070, TTY (301) 457-2540.

SUPPLEMENTARY INFORMATION: The CACs on the African American Population, AIAN Populations, the Asian Population, the Native Hawaiian and Other Pacific Islander Populations, and the Hispanic Population are composed of nine members each, appointed by the Secretary of Commerce. The Committees provide an outside-user perspective about how research and design plans for the reengineered 2010 Decennial Census, the American Community Survey (ACS), and other related programs realize goals and satisfy needs associated with these communities. The committees also assist the Census Bureau on ways that census data can best be disseminated to diverse race and ethnic populations and other users.

The 2010 CAC is composed of a Chair, Vice-Chair, and 20 member organizations—all appointed by the Secretary of Commerce. The Committee considers the goals of the decennial census, including the ACS and related programs, and users' needs for information provided by the decennial census from the perspective of outside data users and other organizations having a substantial interest and expertise in the conduct and outcome of the decennial census.

The CACPA is composed of 36 members appointed by the presidents of the American Economic Association, the American Statistical Association, the Population Association of America, and the Chairman of the Board of the American Marketing Association. The committee advises the Director of the Census Bureau on the full range of Census Bureau programs and activities in relation to each committee's areas of expertise and focus.

All the committees discussed in this notice have been established in accordance with the Federal Advisory Committee Act (Title 5, United States Code, Appendix 2, Section 10(a)(b)).

A brief period will be set aside for public comment. However, individuals with extensive statements for the record must submit them in writing to Ms. Jeri Green, Committee Liaison Officer, 4600 Silver Hill Road, Room 8H153, Washington, DC 20233, or e-mail at jeri.green@census.gov at least three-working days prior to the meetings. Seating is available to the public on a first-come, first-served basis.

The meeting is physically accessible to people with disabilities. Requests for sign language interpretation or other auxiliary aids should be directed to the Census Bureau Committee Liaison Officer as soon as possible, preferably two weeks prior to the meeting.

Dated: October 18, 2006.
Charles Louis Kincannon,
Director, Bureau of the Census.

[FR Doc. E6-17783 Filed 10-23-06; 8:45 am]

BILLING CODE 3510-07-P